DEPARTMENT OF THE INTERIOR

Fish and Wildlife Service

[Docket No. FWS-HQ-NWRS-2023-0126; FXRS126109HD000-234-FF09R23000; OMB Control Number 1018-New]

Agency Information Collection Activities; Programmatic Clearance for U.S. Fish and Wildlife Service Social Science Research

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before December 1, 2023.

ADDRESSES: Send your comments on the information collection request (ICR) by one of the following methods (reference Office of Management and Budget (OMB) Control Number 1018—Programmatic in the subject line of your comment):

• Internet (preferred): https://www.regulations.gov. Follow the instructions for submitting comments on Docket No. FWS-HQ-NWRS-2023-0126.

• U.S. mail: Service Information Collection Clearance Officer, U.S. Fish and Wildlife Service, 5275 Leesburg Pike, MS: PRB (JAO/3W), Falls Church, VA 22041-3803.

We will not accept email or faxes. Comments and materials we receive, as well as supporting documentation, will be available for public inspection on https://www.regulations.gov.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Monitoring and evaluating U.S. Fish and Wildlife Service (Service) activities, including the activities National Wildlife Refuge System (Refuge System), is an essential component of strategic and adaptive management. The collection of information is necessary to enable the Service to garner customer and stakeholder feedback in an efficient, timely manner, in accordance with our commitment to improved service delivery and customer experience. In particular, collection of information and rigorous social science inquiries are necessary to fulfil the goals of the President's Executive Order 14008—Tackling the Climate Crisis at Home and Abroad, the principles of the Service's community-focused Urban Wildlife Conservation Program, a commitment to serving a broader and more diverse public, and allowing the Service to better understand the needs and perspectives of Tribal Nations and Native communities.

The proposed programmatic clearance would cover social science surveys, interviews, and focus groups designed to provide information to Service managers and practitioners to improve quality and utility of agency programs, services, and planning efforts. To ensure continuous improvement, Service activities and projects require ongoing systematic assessment of their design, implementation, and outcomes. Data from collections undertaken through the proposed programmatic clearance would provide information for planning, monitoring, and evaluating Refuge System efforts, as well as efforts of other Service programs. The scope of this programmatic clearance includes individual surveys, focus groups, and interviews of refuge visitors, potential visitors, and residents of communities near Service-managed units, and stakeholders and partners, including Tribal interests.

The President's Executive Order 14008 sets the goal of conserving “at least 30 percent of our lands and waters by 2030” through the Conserving and Restoring America the Beautiful campaign. A collaborative approach is needed to achieve the principles for locally led efforts and better understand the patterns and trends occurring across public lands and waters. The Service's national visitor survey is one approach to collecting information from the public related to visitation across the Refuge System. The national visitor survey seeks to understand the recreation trends and experiences of visitors at refuges to better manage for future visitation that aligns with national conservation goals. One of the recommendations for early focus and progress in the America the Beautiful campaign specifically recommends increasing access for outdoor recreation, a management objective the monitoring data from the visitor survey can help to inform.

The Service's Urban Wildlife Conservation program (Urban program) was established as a means to engage with urban communities more meaningfully in fish and wildlife conservation. It enumerates designation criteria for urban wildlife refuges (urban refuges), partnerships, and bird treaty cities, and describes how the standards of excellence apply to urban refuges and other urban activities. The Urban program aligns particularly well with the Department of the Interior's focus on equity and environmental justice, work that helps to achieve one of the President's Four Pillars (Racial Equity). Another recommendation outlined in the Conserving and Restoring America the Beautiful campaign includes creating safe outdoor opportunities in nature-deprived communities, a goal of which the Urban program is helping to achieve.

The Service is required to “evaluate and adapt” the practices of the Urban program through internal review of the urban entities by the Division of Visitor Services and Communications every 5 years, including an expanded visitor services review for the Urban Refuges as per Policy 110 FW 1. The Division “must analyze the people they are reaching and conduct approved visitor use surveys to monitor the changes and track audience engagement.” In addition, the Service is committed to evaluating progress and measuring success of the Urban Program's standards of excellence, such as “know and relate to the community; connect urban residents with nature through the steppingstones of engagement; and ensure visitors feel safe and welcome.”

The Service's Human Dimensions (HD) Branch, programmatically aligned within the National Wildlife Refuge System, will serve as the office of control for the programmatic clearance. The role of the HD Branch is to build conservation social science understanding, capacity and integration within the Service. A suite of questions will serve as the basis for all information collections under this programmatic clearance. The suite of questions will be used to develop surveys to respond to the above-named Presidential Priorities as well as adaptively ensure improved customer experience and satisfaction. As the office of control, the HD branch ICR Coordinator will conduct the necessary quality control, including assuring that each survey instrument comports with the guidelines of the programmatic clearance.

We developed the following topic areas within the suite of questions to streamline the ICR process:

(1) Respondent Characteristics (e.g., demographics, land and property characteristics, and visits to other public lands). This topic area allows us to understand customer demographic profiles and track visitation trends more holistically over time.

(2) Communication (e.g., languages spoken, sources of information used, and use of social media and other web-based outlets). This topic area allows us to understand customer preferences for finding information.

(3) Trip Planning and Logistics (e.g., purpose of trip, information on wayfinding used, and various trip characteristics). This topic area allows us to understand the logistics and information involved with a customer's trip planning experience and make strategic transportation decisions.

(4) Recreation Activities, Experiences, and Preferences (e.g., recreation activity preferences, experience, and satisfaction). This topic area allows us to better why customers visit, understand preferences for wildlife-dependent recreation, and provide a quality customer experiences at specific sites.

(5) Knowledge, Attitudes, and Beliefs (e.g., understanding and opinions around nature, the outdoors, climate change, and the agency). This topic area allows us to improve future programming and communications with customers.

(6) Resource Management Perceptions and Preferences (e.g., attitudes around resource protection, transportation needs, and other management decisions). This topic area allows us to understand current customer perceptions and anticipate as how customers would most likely react to future management actions.

(7) Visitor Expenditures and Economic Inputs (e.g., trip expenses, information on local businesses, and landowner contributions). This topic area allows us to gather economic data related to conservation goals of the agency.

(8) Public, Stakeholder, and Partner Engagement (e.g., participation in programs, partnerships, and various conservation actions). This topic area allows us to understand if and how the customer dedicates their time to conservation-related actions.

(9) Program Evaluation (e.g., learning outcomes, program experience rating, and satisfaction). This topic area allows to better assess overall program outcomes and performance to improve future programming.

To qualify for the generic programmatic review process, each individual collection under this programmatic clearance must be well-defined in terms of its sample or respondent pool and research methodology; it should clearly fit within the overall plan and scope of the approved ICR; and the survey questions must show a clear tie to Service management needs. Individual collections may not raise any controversial policy issues, include topics of significant public interest, or go beyond the methods specified and approved by OMB in this programmatic ICR. Any individual collection that requests non-agency goal-related data or information on controversial topics would be inappropriate for expedited review under this programmatic clearance and must go through the full PRA clearance process to solicit public feedback. In instances where HD Branch staff are involved with the development of the individual information collection, other uninvolved staff in the HD Branch or a member of the ICR review team would review the ICR.

We will obtain OMB approval of all individual survey submissions developed using the pre-approved suite of questions before the survey can be initiated. If, after consultation with the principal investigator, the ICR coordinator recommends a proposed survey for approval, both the Service and Departmental Information Collection Clearance Officers (ICCO) will review the ICR before it is formally transmitted to OMB for review and approval.

A copy of the draft suite of questions is available to the public for viewing in the docket on the https://www.regulations.gov website, or by submitting an email request to the Service ICCO as provided in the FOR FURTHER INFORMATION CONTACT section of this notice.

Title of Collection: Programmatic Clearance for U.S. Fish and Wildlife Service Social Science Research.

OMB Control Number: 1018-New.

Form Number: None.

Type of Review: New.

Respondents/Affected Public: Persons visiting units managed by the Service; potential visitors, including “virtual visitors” who access content from a Service website; local community members; educators taking part in programs both on and off Service lands; government officials representing the local area; landowners; partners; stakeholders; and Tribal interests.

Respondent's Obligation: Voluntary.

Frequency of Collection: On occasion.

Total Estimated Annual Nonhour Burden Cost: None.

Mode | Annual estimates: Number of respondents | Annual estimates: Completion time per response (avg. minutes) | Annual estimates: Burden hours **
On-site, mail, internet surveys * | 20,333 | 20 | 6,778
Telephone surveys | 833 | 25 | 347
All non-response surveys | 784 | 5 | 65
Focus groups/In-person interviews | 59 | 60 | 59
Annual Total | 22,009 |  | 7,249
3 Year Total | 66,027 |  | 21,747
* Includes 2-minute contact time for some surveys, interviews, and focus groups, and approximately 2,500 electronic surveys.
** All figures are rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-21665 Filed 9-29-23; 8:45 am]

BILLING CODE 4333-15-P